DEPARTMENT OF COMMERCE

International Trade Administration

[A-423-808]

Stainless Steel Plate in Coils From Belgium: Final Results of Antidumping Duty Administrative Review; 2023-2024

AGENCY: Enforcement and Compliance, International Trade Administration, Department of Commerce.

SUMMARY: The U.S. Department of Commerce (Commerce) determines that Aperam Stainless Belgium N.V. (ASB) did not make sales of stainless steel plate in coils from Belgium at less than normal value (NV) during the period of review (POR), May 1, 2023, through April 30, 2024.

DATES: Applicable September 25, 2025.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On June 4, 2025, Commerce published the Preliminary Results of this review in the Federal Register and invited interested parties to comment.¹ On June 23, 2025, Commerce suspended the briefing schedule in order to issue a post-preliminary analysis.² On August 14, 2025, Commerce issued a post-preliminary analysis memorandum replacing the Cohen's d test with the “price difference test.” ³ On August 18, 2025, Commerce re-established the briefing schedule and invited interested parties to comment on the Preliminary Results and the post-preliminary analysis; however, no interested party submitted comments.⁴ Accordingly, we made no changes to the post-preliminary analysis, and thus, no decision memorandum accompanies this notice. Commerce conducted this administrative review in accordance with section 751(a)(1)(B) of the Tariff Act of 1930, as amended (the Act).

¹ See Stainless Steel Plate in Coils from Belgium: Preliminary Results and Rescission, in Part, of Antidumping Duty Administrative Review; 2023-2024, 90 FR 23670 (June 4, 2025) (Preliminary Results), and accompanying Preliminary Decision Memorandum (PDM).

² See Memorandum, “Suspension of Deadline for Case Briefs,” dated June 23, 2025.

³ See Memorandum, “Post-Preliminary Analysis for the Administrative Review of Stainless Steel Plate in Coils from Belgium,” dated August 14, 2025 (Post-Preliminary Memorandum).

⁴ See Memorandum, “Reestablishing Briefing Schedule,” dated August 18, 2025.

Scope of the Order ⁵

⁵ See Certain Stainless Steel Plate in Coils from Belgium, Canada, Italy, the Republic of Korea, South Africa, and Taiwan, 64 FR 27756 (May 21, 1999) (Order).

The merchandise covered by this Order is stainless steel plate in coils from Belgium. For a complete description of the scope, see the Preliminary Results.⁶

⁶ See Preliminary Results PDM at 3.

Changes Since the Preliminary Results

On June 13 and June 16, 2025, respectively, the U.S. Court of Appeals for the Federal Circuit (Federal Circuit) issued mandates based on the Federal Circuit's opinions in Marmen and Stupp.⁷ In its opinions, the Federal Circuit held that it is unreasonable to use the Cohen's d test when the Cohen's d test is applied to data that do not satisfy certain statistical criteria. Accordingly, to comply with the Federal Circuit's holdings regarding the Cohen's d test, Commerce revised the differential pricing analysis used in the Preliminary Results in a post-preliminary analysis.⁸ Commerce has made no other changes for these final results.

⁷ See Marmen Inc. v. United States, 134 F.4th 1334 (Fed. Cir. 2025) (Marmen); Stupp Corp. v. United States, No. 23-1663, 2025 WL 1178392 (Fed. Cir. 2025) (non-precedential) (Stupp).

⁸ See Post-Preliminary Memorandum; see also, Memorandum, “Post-Preliminary Sales and Cost Calculation Memorandum for Aperam Stainless Belgium N.V.,” dated August 14, 2025 (Post-Preliminary Calculation Memorandum).

Final Results of Review

In the Preliminary Results, we determined that ASB did not make sales of subject merchandise at less than NV during the POR. As noted above, Commerce received no comments concerning the Preliminary Results or the post-preliminary analysis. Therefore, for these final results, Commerce continues to determine that the following weighted-average dumping margin exists for the period May 1, 2023, through April 30, 2024:

Producer or exporter | Weighted- average dumping margin (percent)
Aperam Stainless Belgium N.V | 0.00

Disclosure

Normally, Commerce discloses to interested parties the calculations of the final results of an administrative review within five days of a public announcement or, if there is no public announcement, within five days of the date of publication of the notice of final results in the Federal Register, in accordance with 19 CFR 351.224(b). However, because we have made no changes to the Preliminary Results other than those discussed in the Post-Preliminary Memorandum and Post-Preliminary Calculation Memorandum, for which we received no comments, there are no new calculations to disclose.

Assessment Rate

Pursuant to section 751(a)(2)(C) of the Act, and 19 CFR 351.212(b)(1), Commerce shall determine, and U.S. Customs and Border Protection (CBP) shall assess, antidumping duties on all appropriate entries covered by this review. Pursuant to 19 CFR 351.212(b)(1), where the respondent reported the entered value of its U.S. sales, we calculated importer-specific antidumping duty assessment rates by aggregating the total amount of dumping calculated for the examined sales of each importer and dividing each of these amounts by the total entered value associated with those sales. Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis within the meaning of 19 CFR 351.106(c)(1), or an importer-specific assessment rate is zero or de minimis, we will instruct CBP to liquidate the appropriate entries without regard to antidumping duties.

Commerce's “reseller policy” will apply to entries of subject merchandise during the POR produced by ASB for which the reviewed company did not know that the merchandise it sold to the intermediary (e.g., a reseller, trading company, or exporter) was destined for the United States. In such instances, we will instruct CBP to liquidate unreviewed entries at the all-others rate if there is no rate for the intermediate company(ies) involved in the transaction.⁹

⁹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective for all shipments of the subject merchandise entered, or withdrawn from warehouse, for consumption on or after the publication date of the final results of this administrative review, as provided by section 751(a)(2)(C) of the Act: (1) the cash deposit rate for ASB will be zero, the rate established in the final results of this review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 9.86 percent, the rate established in the original investigation of this proceeding.¹⁰ These cash deposit requirements, when imposed, shall remain in effect until further notice.

¹⁰ See Order, 64 FR at 27757.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: September 19, 2025.
Christopher Abbott,
Deputy Assistant Secretary for Policy and Negotiations, performing the non-exclusive functions and duties of the Assistant Secretary for Enforcement and Compliance.

[FR Doc. 2025-18564 Filed 9-24-25; 8:45 am]

BILLING CODE 3510-DS-P